ENVIRONMENTAL PROTECTION AGENCY

[EPA-HQ-OPP-2013-0494; FRL 9912-34-OEI]

Information Collection Request Submitted to OMB for Review and Approval; Comment Request; Plant Incorporated Protectants; CBI Substantiation and Adverse Effects Reporting (Renewal)

AGENCY: Environmental Protection Agency (EPA).

ACTION: Notice.

SUMMARY: EPA has submitted the following information collection request (ICR) to the Office of Management and Budget (OMB) for review and approval in accordance with the Paperwork Reduction Act (44 U.S.C. 3501 et seq.): Plant Incorporated Protectants; CBI Substantiation and Adverse Effects Reporting (EPA ICR No. 1693.08, OMB Control No. 2070-0142). EPA did not receive any comments in response to the previously provided public review opportunity issued in the Federal Register on September 25, 2013 (78 FR 59014). With this submission, EPA is providing an additional 30 days for public comments. An Agency may not conduct or sponsor and a person is not required to respond to a collection of information unless it displays a currently valid OMB control number.

DATES: Comments must be submitted on or before July 28, 2014.

ADDRESSES: Submit your comments, referencing Docket ID Number EPA-HQ-OPP-2013-0494, to (1) EPA online using http://www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Scott Drewes, Field and External Affairs Division, 7506P, Environmental Protection Agency, 1200 Pennsylvania Ave. NW., Washington, DC 20460; telephone number: (703) 347-0107; email address: drewes.scott@epa.gov.

SUPPLEMENTARY INFORMATION: Docket: The ICR, which explains in detail the information collection activities and the related burden and cost estimates, is summarized in this document and is available in the docket for this ICR. The docket can be viewed online at http://www.regulations.gov or in person at the EPA Docket Center, WJC West, Room 3334, 1301 Constitution Ave. NW., Washington, DC. The telephone number for the Docket Center is 202-566-1744. For additional information about EPA's docket, visit http://www.epa.gov/dockets.

ICR Title: Plant Incorporated Protectants; CBI Substantiation and Adverse Effects Reporting.

ICR numbers: EPA ICR No. 1693.08, OMB Control No. 2070-0142.

ICR status: The current OMB approval for this ICR is scheduled to expire on June 30, 2014. Under OMB regulations, the Agency may continue to conduct or sponsor the collection of information while this submission is pending at OMB.

Abstract: This ICR addresses the two information collection requirements described in regulations pertaining to pesticidal substances that are produced by plants (plant-incorporated protectants) and which are codified in 40 CFR part 174. A plant-incorporated protectant is defined as “the pesticidal substance that is intended to be produced and used in a living plant and the genetic material necessary for the production of such a substance.” Many, but not all, plant-incorporated protectants are exempt from registration requirements under the Federal Insecticide, Fungicide, and Rodenticide Act (FIFRA). Registrants sometimes include in a submission to EPA for registration of plant-incorporated protectants information that they claim to be confidential business information (CBI). CBI is protected by FIFRA and generally cannot be released to the public. Under 40 CFR part 174, whenever a registrant claims that information submitted to EPA in support of a registration application for plant-incorporated protectants contains CBI, the registrant must substantiate such claims when they are made, rather than provide it later upon request by EPA. In addition, manufacturers of plant-incorporated protectants that are otherwise exempted from the requirements of registration must report adverse effects of the plant-incorporated protectant to the Agency. Such reporting will allow the Agency to determine whether further action is needed to prevent unreasonable adverse effects to the environment.

Form Numbers: None.

Respondents/affected entities: Entities potentially affected by this ICR include producers and importers of Plant Incorporated Protectants (PIPs). The North American Industrial Classification System (NAICS) codes for respondents under this ICR include: 325320 (Pesticide and other Agricultural Chemical Manufacturing), 325414 (Biological Products (except Diagnostic) Manufacturing), 422910 (Farm Supplies Wholesalers), 422930 (Flower, Nursery Stock, and Florists's Suppliers), 541710 (Research and Development in the Physical, Engineering, and Life Sciences), and 611310 (Colleges, Universities, and Professional Schools).

Respondent's obligation to respond: Mandatory.

Estimated number of respondents: 20.

Frequency of response: On occasion.

Total estimated burden: 432 hours (per year). Burden is defined at 5 CFR 1320.3(b).

Total estimated cost: $31,371 (per year). There are no annualized capital or operation & maintenance costs associated with this ICR.

Changes in the Estimates: There is increase of 43 hours in the total estimated respondent burden compared with the ICR currently approved by OMB. This increase reflects EPA's updating of burden estimates for this collection based upon historical information on the number of CBI substantiations per year. Based upon revised estimates, the number of CBI substantiations per year has increased from 18 to 20, with a corresponding increase in the associated burden. This change is an adjustment.

Spencer W. Clark,
Acting Director, Collection Strategies Division.

[FR Doc. 2014-14901 Filed 6-25-14; 8:45 am]

BILLING CODE 6560-50-P